DEPARTMENT OF TRANSPORTATION

Federal Highway Administration

Environmental Impact Statement: Bartow County, GA

AGENCY: Federal Highway Administration (FHWA), Georgia Department of Transportation (GDOT).

ACTION: Notice of intent.

SUMMARY: The FHWA is issuing this notice to advise the public that a supplemental draft Environmental Impact Statement (EIS) will be prepared for the proposed new location extension of US 411 in Bartow County, Georgia.

FOR FURTHER INFORMATION CONTACT: Robert M. Callan, P.E., Division Administrator, Federal Highway Administration, 61 Forsyth Street, SW., Suite 17T100, Atlanta, GA 30303-3104, Telephone (404) 562-3630 and/or Mr. Harvey Keepler, State Environmental/Location Engineer, Georgia Department of Transportation, Office of Environmental/Location, 3993 Aviation Circle, Atlanta, Georgia 30336, Telephone (404) 699-4400.

SUPPLEMENTARY INFORMATION: The FHWA, in cooperation with the GDOT, will prepare a supplemental draft EIS to construct a new location roadway between US 41 and I-75 in Bartow County, Georgia for a distance of approximately 7.5 miles. This new location extension of US 411 is needed to provide additional capacity and congestion relief for the existing roadway network, which currently includes common sections of US 411, SR 61 and SR 20 to access I-75. This project would provide direct, multi-lane access from Rome to I-75 and is one of the final connecting links in the Memphis to Atlanta Connector.

A Final EIS for this project was approved January 9, 1989, and the Record of Decision was signed May 25, 1989. In 1991, a suit was filed against the USDOT, FHWA and the GDOT on this project. In 1993, the United States District Court for the Northern District of Georgia acknowledged the need for the project and confirmed its independent utility from a larger east-west connector known as teh Northern Arc. However, the document was ruled inadequate because it failed to adequately study a full range of alternatives. The proposed Supplemental draft EIS will address and study a full range of alternatives for this corridor and will provide updated studies and analyses on the alternatives originally studied.

Letters describing the proposed action and soliciting comments will be sent to appropriate Federal, State, and local agencies. A public hearing will be held and a public notice will be given of the time and place of the hearing.

To ensure that the full range of issues related to this proposed project is addressed and all significant issues identified in the EIS, formal scoping will be reinitiated. Additionally, comments and suggestions are invited from all interested parties. Comments or questions concerning this proposed action should be directed to the FHWA at the address provided above.

(Catalog of Federal Domestic Assistance Program Number 20.205, Highway Research, Planning and Construction. Georgia's approved clearinghouse review procedures apply to this program.)
Issued on: November 5, 2003.
Jennifer L. Giersch,
Environmental Coordinator, Atlanta, Georgia.

[FR Doc. 03-28631 Filed 11-14-03; 8:45 am]

BILLING CODE 4910-22-M